DEPARTMENT OF HEALTH AND HUMAN SERVICES

Centers for Disease Control and Prevention

Advisory Committee for Energy-Related Epidemiologic Research (ACERER) and ACERER Subcommittee for Community Affairs: Meetings

In accordance with section 10(a)(2) of the Federal Advisory Committee Act (Pub. L. 92-463), the Centers for Disease Control and Prevention (CDC) announces the following Federal advisory committee meetings.

Name: Advisory Committee for Energy-Related Epidemiologic Research (ACERER) Subcommittee for Community Affairs (SCA).

Time and Date: 9 a.m.-5:30 p.m., June 6, 2000.

Place: Sheraton Columbia Hotel, 10207 Wincopin Circle, Columbia, Maryland 21044, telephone 410/730-3900, fax 410/730-1290.

Status: Open to the public, limited only by the space available. The meeting room accommodates approximately 70 people.

Purpose: This subcommittee advises ACERER on matters related to community needs.

Matters To Be Discussed: Agenda items will include a discussion of the SCA recommendation concerning cumulative risk and dose; an update from CDC and the National Cancer Institute program development planning for communicating Iodine-131 exposures from nuclear weapons testing fallout; a panel discussion on community-based education and capacity building; and an update on the status and plans for CDC's and ATSDR's mechanisms for public participation at different Department of Energy sites.

Agenda items are subject to change as priorities dictate.

Contact Person for More Information: Paul G. Renard, Executive Secretary, SCA, ACERER, Radiation Studies Branch, Division of Environmental Hazards and Health Effects, National Center for Environmental Health (NCEH), CDC, 1600 Clifton Road, NE, (E-39), Atlanta, Georgia 30333, telephone 404/639-2550, fax 404/639-2575.

Name: Advisory Committee for Energy-Related Epidemiologic Research (ACERER).

Times and Dates: 8:30 a.m.-5 p.m., June 7, 2000; 8 a.m.-5 p.m., June 8, 2000.

Place: Sheraton Columbia Hotel, 10207 Wincopin Circle, Columbia, Maryland 21044, telephone 410/730-3900, fax 410/730-1290.

Status: Open to the public, limited only by the space available. The meeting room accommodates approximately 70 people.

Purpose: This committee is charged with providing advice and recommendations to the Secretary, Department of Health and Human Services; and to the Director, CDC; and the Administrator, Agency for Toxic Substances and Disease Registry (ATSDR), on establishment of a research agenda and the conduct of a research program pertaining to energy-related epidemiologic studies.

Matters To Be Discussed: Agenda items will include an update from the ACERER Subcommittee for Management Review of the Chernobyl Studies; an update from the ACERER SCA; a report on the status of the CDC report to Congress on fallout; an update on the Republic of the Marshall Islands Study; an update on the Hanford Thyroid Disease Study; and a workshop on the consideration of targeted screening for thyroid and parathyroid disease in a higher risk population exposed to Iodine-131.

Agenda items are subject to change as priorities dictate.

Contact Person for More Information: Michael J. Sage, Executive Secretary, ACERER, NCEH, CDC, 4700 Buford Highway, NE, (F-29), Atlanta, Georgia 30333, telephone 770/488-7002, fax 770/488-7015.

The Director, Management Analysis and Services Office, has been delegated the authority to sign Federal Register notices pertaining to announcements of meetings and other committee management activities for both the CDC and ATSDR.

Dated: May 16, 2000.
Carolyn J. Russell,
Director, Management Analysis and Services Office, Centers for Disease Control and Prevention.

[FR Doc. 00-12741 Filed 5-19-00; 8:45 am]

BILLING CODE 4163-18-P